DEPARTMENT OF AGRICULTURE

Food and Nutrition Service

Agency Information Collection Activities: Proposed Collection; Comment Request—Information Collection for the National School Lunch Program

AGENCY: Food and Nutrition Service (FNS), USDA.

ACTION: Notice.

SUMMARY: In accordance with the Paperwork Reduction Act of 1995, this notice invites the general public and other public agencies to comment on this information collection. This is a revision of the FNS-640 Administrative Review Data Report associated with the currently approved information collection for the National School Lunch Program.

DATES: Written comments must be received on or before May 9, 2016.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Sarah Smith-Holmes, Division Director, Program Monitoring and Operational Support, Child Nutrition Division, Food and Nutrition Service, U.S. Department of Agriculture, 3101 Park Center Drive, Alexandria, VA 22302-1594. Comments may also be submitted via fax to the attention of Sarah Smith-Holmes at 703-305-2879 or via email to Sarah.Smith-Holmes@fns.usda.gov. Comments will also be accepted through the Federal eRulemaking Portal. Go to http://www.regulations.gov, and follow the online instructions for submitting comments electronically.

All written comments will be open for public inspection at the office of the Food and Nutrition Service during regular business hours (8:30 a.m. to 5 p.m., Monday through Friday) at 3101 Park Center Drive, Alexandria, Virginia 22302.

All responses to this notice will be summarized and included in the request for Office of Management and Budget approval. All comments will be a matter of public record.

FOR FURTHER INFORMATION CONTACT: Requests for additional information or copies of this information collection should be directed to Sarah Smith-Holmes at the address indicated above or by phone at 703-605-3223.

SUPPLEMENTARY INFORMATION: Title: 7 CFR Part 210, National School Lunch Program.

Form: FNS-640.

OMB Control Number: 0584-0006.

Expiration Date: March 31, 2016.

Type of Request: Revision of a currently approved collection.

Abstract: The Richard B. Russell National School Lunch Act (NSLA), as amended, authorizes the National School Lunch Program (NSLP) to safeguard the health and well-being of the nation's children and provide free or reduced price school lunches to qualified students through subsidies to schools. Section 10 of the Child Nutrition Act of 1966 (42 U.S.C. 1779) requires the Secretary of Agriculture to prescribe such regulations as deemed necessary to carry out this Act and the NSLA (42 U.S.C. 1751 et seq.). Pursuant to that provision, the Secretary has issued 7 CFR part 210, which sets forth policies and procedures for the administration and operation of the NSLP. The United States Department of Agriculture (USDA) provides States with general and special cash assistance and donations of foods to assist schools in serving nutritious lunches to children each school day. Participating State agencies must conduct administrative reviews to monitor compliance with Program requirements. FNS collects Program data from State agencies on FNS forms that have been approved by OMB. The FNS-640 form collects information from these administrative reviews conducted by the State agency. The FNS-640 Coordinated Review Effort (CRE) Data Report is currently approved as part of this information collection. The title of the FNS-640 form is being changed to “Administrative Review Data Report” and FNS is proposing revisions to reflect changes to the administrative review process and revisions to incorporate the form into an electronic report for the Food Program Reporting System (FPRS). Upon approval of the proposed revisions by OMB, the reporting burden for this form will be merged into the FPRS information collection, OMB control # 0584-0594, expiration date 06/30/2017. The reporting and recordkeeping burden hours associated with this revision are not changing.

This information collection is required to administer and operate this program in accordance with the NSLA. All of the reporting and recordkeeping requirements associated with the NSLP are currently approved by the Office of Management and Budget and are in force. This is a revision of the currently approved information collection.

Affected Public: (1) State agencies; (2) School Food Authorities; and (3) schools.

Number of Respondents: 121,210 (56 State agencies (SAs), 19,822 school food authorities (SFAs), and 101,332 schools.

Number of Responses per Respondent: 4.14573.

Total Annual Responses: 502,504.

Reporting Time per Response: 0.7038758.

Estimated Annual Reporting Burden: 353,700.

Number of Recordkeepers: 121,210 (56 SAs, 19,822 SFAs, 101,332 schools).

Number of Records per Record Keeper: 406.294827.

Estimated Total Number of Records: 49,246,996.

Recordkeeping Time per Response: 0.19326446.

Total Estimated Recordkeeping Burden: 9,517,694.

Annual Recordkeeping and Reporting Burden: 9,871,395.

Current OMB Inventory for Part 210: 9,871,395.

Difference (change in burden with this renewal): 0.

Refer to the table below for estimated total annual burden for each type of respondent.

Affected public | Estimated number of respondents | Number of responses per respondent | Total annual responses | Estimated average hours per response | Estimated total burden (hours)
Reporting
State Agencies | 56 | 122 | 6,832 | 7.7762 | 53,127
School Food Authorities | 19,822 | 15 | 293,008 | 0.956653 | 280,307
Schools | 101,332 | 2 | 202,664 | 0.1 | 20,266
Total Estimated Reporting Burden | 121,210 |  | 502,504 |  | 353,700
Recordkeeping
State Agencies | 56 | 1419 | 79,464 | 1.5913 | 126,451
School Food Authorities | 19,822 | 20 | 396,440 | 4.5380 | 1,799,045
Schools | 101,332 | 481 | 48,771,092 | 0.15567 | 7,592,199
Total Estimated Recordkeeping Burden | 121,210 |  | 49,246,996 |  | 9,517,695
Total of Reporting and Recordkeeping
Reporting | 121,210 | 4.14573 | 502,504 | 0.703875 | 353,700
Recordkeeping | 121,210 | 510.264 | 49,246,996 | 0.184631055 | 9,517,695
Total |  |  | 49,749,500 |  | 9,871,395

Dated: February 29, 2016.
Telora T. Dean,
Acting Administrator, Food and Nutrition Service.

[FR Doc. 2016-05312 Filed 3-9-16; 8:45 am]

BILLING CODE 3410-30-P